EXPORT-IMPORT BANK

Notice of Open Meeting of the Advisory Committee of the Export-Import Bank of the United States (Ex-Im Bank)

SUMMARY: The Advisory Committee was established by Public Law 98-181, November 30, 1983, to advise the Export-Import Bank on its programs and to provide comments for inclusion in the report on competitiveness of the Export-Import Bank of the United States to Congress.

Time and Place: Wednesday, June 1, 2016 from 11:00 a.m.-3:00 p.m.. A break for lunch will be at the expense of the attendee. Security processing will be necessary for reentry into the building. The meeting will be held at EXIM Bank in the Main Conference Room—11th Floor, 811 Vermont Avenue NW., Washington, DC 20571.

Agenda: Discussion of EXIM's Annual Competitiveness Report to Congress.

Public Participation: The meeting will be open to public participation, and 10 minutes will be set aside for oral questions or comments. Members of the public may also file written statement(s) before or after the meeting. If you plan to attend, a photo ID must be presented at the guard's desk as part of the clearance process into the building, you may contact Tia Pitt at tia.pitt@exim.gov to be placed on an attendee list. If any person wishes auxiliary aids (such as a sign language interpreter) or other special accommodations, please email Tia Pitt at tia.pitt@exim.gov prior to May 27, 2016.

Members of the Press: For members of the Press planning to attend the meeting, a photo ID must be presented at the guard's desk as part of the clearance process into the building please email Tia Pitt at tia.pitt@exim.gov to be placed on an attendee list.

FOR FURTHER INFORMATION CONTACT: For further information, contact Tia Pitt, 811 Vermont Ave. NW., Washington, DC 20571, at tia.pitt@exim.gov

Bonita Jones-McNeil,
Program Analyst, Agency Clearance Officer, Office of the Chief Information Officer.

[FR Doc. 2016-12830 Filed 5-27-16; 11:15 am]

BILLING CODE 6690-01-P